DEPARTMENT OF COMMERCE

National Oceanic and Atmospheric Administration

[I.D. 013007B]

Endangered and Threatened Species; Take of Anadromous Fish

AGENCY: National Marine Fisheries Service (NOAA Fisheries), National Oceanic and Atmospheric Administration (NOAA), U. S. Department of Commerce.

ACTION: Notice of receipt of a permit application; request for comments.

SUMMARY: Notice is hereby given that NOAA Fisheries has received an application for a permit to conduct research for scientific purposes from Freddy Otte, City of San Luis Obispo, California. The requested permit would affect the South Central California Coast Distinct Population Segment of threatened steelhead trout (Oncorhynchus mykiss). The public is hereby notified of the availability of the permit application for review and comment before NOAA Fisheries either approves or disapproves the application.

DATES: Written comments on the permit application must be received at the appropriate address or fax number (see ADDRESSES) on or before March 14, 2007.

ADDRESSES: Written comments on the permit application should be sent to Matt McGoogan, Protected Resources Division, NOAA Fisheries, 501 W. Ocean Blvd., Suite 4200, Long Beach, California 90802. Comments may also be sent using email (FRNpermits.lb@noaa.gov) or fax (562.980.4027). The permit application is available for review, by appointment only, at the foregoing address.

FOR FURTHER INFORMATION CONTACT: Matt McGoogan at phone number (562) 980-4026 or e-mail: matthew.mcgoogan@noaa.gov

SUPPLEMENTARY INFORMATION:

Authority

Issuance of permits, as required by the Endangered Species Act of 1973 (16 U.S.C. 1531B1543) (ESA), is based on a finding that such permits: (1) are applied for in good faith; (2) would not operate to the disadvantage of the listed species which are the subject of the permits; and (3) are consistent with the purposes and policies set forth in section 2 of the ESA. Authority to take listed species is subject to conditions set forth in the permits. Permits are issued in accordance with and are subject to the ESA and NOAA Fisheries regulations governing listed fish and wildlife permits (50 CFR parts 222-226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NOAA Fisheries.

Permit Application Received

Freddy Otte has applied for a permit to take the South Central California Coast Distinct Population Segment of threatened steelhead trout (Oncorhynchus mykiss) and tissue collection from this species during a two-year study (2007 and 2008) of the abundance and distribution of juvenile steelhead in the San Luis Obispo Creek watershed, San Luis Obispo County, California. Freddy Otte proposes electrofishing and direct underwater observation using mask and snorkel as the methods for estimating abundance and distribution of juvenile steelhead, and has requested an annual non-lethal take of 1620 juvenile steelhead, and annual collection and possession of up to 100 juvenile steelhead tissue samples, with the total possession for both years not exceeding 200 tissue samples. The proposed research would conclude October 31, 2008.

Dated: February 6, 2007.
Angela Somma,
Chief, Endangered Species Division, Office of Protected Resources, National Marine Fisheries Service.

[FR Doc. E7-2339 Filed 2-9-07; 8:45 am]

BILLING CODE 3510-22-S